DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

SUPPLEMENTARY INFORMATION:

List of Petitions Received by EDA for Certification of Eligibility To Apply for Trade Adjustment Assistance
[10/10/2017 through 10/24/2017]
Firm name | Firm address | Date accepted for investigation | Product(s)
Drake Specialties, LLC | 221 Fourpark Road, Lafayette, LA 70507 | 10/16/2017 | The firm manufactures safety spray shields designed to detect and temporarily contain leaks and sprays.
Toolander Engineering, Inc | 1110 Via Callejon, San Clemente, CA 92673 | 10/18/2017 | The firm manufactures precision metal stampings and progressive dies and tooling. The firm also provides stamped part design services and secondary services, including welding and assembly.
Artistic Manufacturing Corporation | 602 3rd Street SW., Altoona, IA 50009 | 10/20/2017 | The firm manufactures metal-plated church ware.
Fox Laminating Company | 84 Custer Street, West Hartford, CT 06110 | 10/24/2017 | The firm manufactures custom laminated wood plaques and provides commercial film laminating and finishing services.
Raining Rose, Inc | 100 30th Street Drive SE., Cedar Rapids, IA 52403 | 10/24/2017 | The firm manufactures body care products, such as lip balms.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice. These petitions are received pursuant to section 251 of the Trade Act 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2017-23603 Filed 10-30-17; 8:45 am]

BILLING CODE 3510-WH-P